DEPARTMENT OF COMMERCE

National Oceanic and Atmospheric Administration

15 CFR Part 902

50 CFR Part 660

[Docket No. 140528460-5498-03]

RIN 0648-BE25

Fisheries off West Coast States; Highly Migratory Fisheries; California Swordfish Drift Gillnet Fishery; Vessel Monitoring System Requirements

AGENCY: National Marine Fisheries Service (NMFS), National Oceanic and Atmospheric Administration (NOAA), Commerce.

ACTION: Final rule; effectiveness of collection-of-information requirements.

SUMMARY: NMFS announces approval by the Office of Management and Budget (OMB) of collection-of-information requirements contained in regulations pertaining to the U.S. West Coast drift gillnet (DGN) fishery in a final rule that published on February 26, 2015, pursuant to the Paperwork Reduction Act of 1995 under OMB control number 0648-0498. The intent of this final rule is to publish the OMB control number for the collection-of-information requirements associated with the vessel monitoring system (VMS) regulations and to inform the public of their effectiveness.

DATES: This final rule is effective July 9, 2015. Amendments to paragraphs (l), (o), and (p) of § 660.705 and paragraphs (f)(2) through (g)(5) of § 660.713 published at 80 FR 10392 (February 26, 2015) are effective on July 9, 2015.

ADDRESSES: Written comments regarding burden-hour estimates or other aspects of the collection-of-information requirements contained in this final rule may be submitted to the Regional Administrator, NMFS, West Coast Regional Office, 7600 Sand Point Way, NE., Bldg. 1, Seattle, WA. 98115-0070, or RegionalAdministrator.WCRHMS@noaa.gov, and by email to OIRA_Submission@omb.eop.gov, or fax to (202) 395-7285.

FOR FURTHER INFORMATION CONTACT: Amber Rhodes, NMFS, (562) 980-3231, or Amber.Rhodes@noaa.gov.

SUPPLEMENTARY INFORMATION: The DGN fishery is managed under the Fishery Management Plan for U.S. West Coast Fisheries for Highly Migratory Species, which was prepared by the Pacific Fishery Management Council and is implemented under the authority of the Magnuson-Stevens Fishery Conservation and Management Act (MSA), 16 U.S.C. 1801, et seq., by regulations at 50 CFR part 660.

Background

A final rule to add regulations at 50 CFR part 660, subpart K, to require use of a NMFS-approved VMS and to institute a 48-hour pre-trip call-in notification requirement for DGN vessel owners and operators, was published in the Federal Register on February 26, 2015 (80 FR 10392). The requirements of that final rule, other than the collection-of-information requirements associated with VMS requirements, were effective on March 30, 2015. Because OMB approval of the collection-of-information requirements had not been received by the date that the final rule was published, the effective date of the VMS requirements was delayed.

OMB approved the collection-of-information requirements contained in the final rule on May 5, 2015. Accordingly, this final rule makes effective the collection-of-information requirements at § 660.705 and § 660.713, which were amended in the February 26, 2015, final rule.

Classification

This final rule has been determined to be not significant for purposes of Executive Order 12866.

This final rule contains a collection-of-information requirements subject to the Paperwork Reduction Act (PRA) under OMB Control Number 0648-0498. The public reporting burden for compliance with the these requirements is estimated to include a one-time, 4-hour response time for installing a VMS unit and a 1-hour response time annually to maintain and repair a unit. Activation and exemption reports are estimated to average 5 minutes per response, including time to review instructions for, and prepare and submit the reports.

Notwithstanding any other provision of the law, no person is required to respond to, and no person shall be subject to penalty for failure to comply with, a collection-of-information subject to the requirements of the PRA, unless that collection-of-information displays a currently valid OMB control number.

List of Subjects in 15 CFR Part 902

Reporting and recordkeeping requirements.

Dated: June 3, 2015.
Samuel D. Rauch III,
Deputy Assistant Administrator for Regulatory Programs, National Marine Fisheries Service.

For the reasons set out in the preamble, NMFS amends 15 CFR part 902 as follows:

Title 15—Commerce and Foreign Trade

PART 902—NOAA INFORMATION COLLECTION REQUIREMENT UNDER THE PAPERWORK REDUCTION ACT: OMB CONTROL NUMBERS

1. The authority citation for part 902 continues to read as follows:

Authority: 44 U.S.C. 3501 et seq.

2. In § 902.1, in the table in paragraph (b), under the entry “50 CFR”, add entries in alphanumeric order for “660.705(l), (o) and (p)” and “660.713(f)(2) through (g)(5)” to read as follows:

§ 902.1 OMB control numbers assigned pursuant to the Paperwork Reduction Act.

* * * * *

(b) * * *

CFR part or section where the information collection requirement is located | Current OMB control number (all numbers begin with 0648-)
* * * * *
50 CFR
* * * * *
660.705(l), (o), (p) | -0498
* * * * *
660.713(f)(2) through (g)(5) -0498
* * * * *

[FR Doc. 2015-14002 Filed 6-8-15; 8:45 am]

BILLING CODE 3510-22-P